ENVIRONMENTAL PROTECTION AGENCY

[FRL-7118-9]

Proposed Agreement and Covenant Not To Sue Pursuant to the Comprehensive Environmental Response, Compensation, and Liability Act of 1980, as Amended by the Superfund Amendments and Reauthorization Act of 1986; In Re: Gardner and Hubbardston Superfund Site, Gardner, Massachusetts

AGENCY: Environmental Protection Agency.

ACTION: Notice of proposed agreement; request for public comment.

SUMMARY: In accordance with the Comprehensive Environmental Response Compensation, and Liability Act, as amended (“CERCLA”), 42 U.S.C. 9601, et seq., notice is hereby given of a proposed Agreement and Covenant Not to Sue between the United States, on behalf of the U.S. Environmental Protection Agency (“EPA”) and The Gardner Little League, Inc. (“Purchaser”). The Purchaser plans to acquire approximately 10 acres of property that is currently owned by Mr. Ronald Kirwood. The Purchaser intends to use the property to construct a youth baseball facility. Under the Proposed Agreement, the United States grants a Covenant Not to Sue to the Purchaser with respect to existing contamination at the Site in exchange for the Purchaser's agreement to pay EPA $12,000. In addition, the Purchaser agrees to provide an irrevocable right of access to representatives of EPA.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted on or before January 17, 2002.

ADDRESSES: Comments should be addressed to Michelle Lauterback, Enforcement Counsel, U.S. Environmental Protection Agency, Regional I, One Congress Street, Suite 1100, Mail code SES, Boston, Massachusetts 02203, and should refer to: In re: Gardner and Hubbardston Superfund Site, U.S. EPA Docket No. CERCLA-01-2001-0076.

FOR FURTHER INFORMATION CONTACT: A copy of the proposed Agreement and Covenant Not to Sue can be obtained from Sharon Fennelly, Enforcement Coordinator, U.S. Environmental Protection Agency, Region I, One Congress Street, Mailcode HBR, Boston, Massachusetts 02214, (617) 918-1263.

Dated: November 7, 2001.
Robert V. Varney,
Regional Administrator, Region I.

[FR Doc. 01-31180 Filed 12-17-01; 8:45 am]

BILLING CODE 6560-50-M